DEPARTMENT OF THE INTERIOR

Bureau of Land Management

[LLES956000-L14200000-BK0000]

Eastern States: Filing of Plats of Survey

AGENCY: Bureau of Land Management, Interior.

ACTION: Notice of filing of plat of survey; North Carolina, stay lifted.

SUMMARY: On Thursday, January 3, 2013, there was published in the Federal Register, Volume 78, Number 2, on pages 318-319 a notice entitled “Eastern States: Filing of Plats of Survey, North Carolina”. Said notice referenced the stay of the plat of the dependent resurvey of a portion of the Qualla Indian Boundary, land held in trust for the Eastern Band of Cherokee Indians in Swain County, in the state of North Carolina. This survey was accepted December 19, 2012.

The protest against the survey was dismissed on August 16, 2013 and the plat of survey accepted December 19, 2012, was officially filed in Eastern States Office, Springfield, Virginia, at 7:30 a.m., on August 16, 2013. Copies of the plat will be made available upon request and prepayment of the reproduction fee of $7.50 per copy.

Dated: August 27, 2013.
John Sroufe,
Acting Chief Cadastral Surveyor.

[FR Doc. 2013-21440 Filed 9-3-13; 8:45 am]

BILLING CODE 4310-GJ-P